DEPARTMENT OF THE INTERIOR

Office of the Secretary

Invasive Species Advisory Committee

AGENCY: Office of the Secretary, National Invasive Species Council.

ACTION: Notice of public meeting of the Invasive Species Advisory Committee.

SUMMARY: Pursuant to the provisions of the Federal Advisory Committee Act (FACA), as amended, 5 U.S.C., App., notice is hereby given of a meeting of the Invasive Species Advisory Committee (ISAC). The purpose of ISAC is to provide advice to the National Invasive Species Council (NISC), as authorized by Executive Order 13112, on a broad array of issues related to preventing the introduction of invasive species and providing for their control and minimizing the economic, ecological, and human health impacts that invasive species cause. NISC is co-chaired by the Secretary of the Interior, the Secretary of Agriculture, and the Secretary of Commerce. NISC provides national leadership regarding invasive species issues. A meeting of ISAC will be held on August 11, 2009 from 1 p.m. until 3 p.m. EDT. Members of the public are invited to attend. A teleconference call-in number will be established. The purpose of this meeting is to convene the full ISAC to discuss, modify, and consider for adoption the ISAC position paper concerning the use of plant species that may be invasive in Federal biofuel programs. Meeting space is limited to fifteen individuals and the number of telephone call-in lines is limited to seventy. Members of the public that wish to attend this meeting or wish to access the teleconference lines are requested to contact Delpha Arnold at 202-513-7243, Fax: (202) 371-1751, or e-mail Delpha_Arnold@ios.doi.gov to obtain the call-in number and access code. Requests for call-in numbers or to attend must be received before 4:30 p.m. EDT August 7, 2009. Attendance will be on a first come first served basis.

DATES: Meeting of the Invasive Species Advisory Committee: August 11, 2009 from 1 p.m. until 3 p.m. EDT.

ADDRESSES: National Invasive Species Council, 1201 Eye Street, NW., Suite 570-A; Washington, DC 20005. Members of the public must provide photo identification and be cleared through building security prior to being escorted to the meeting room.

FOR FURTHER INFORMATION CONTACT: Chris Dionigi, NISC Acting Executive Director, (202) 513-7243; Fax: (202) 371-1751, or e-mail Chris_Dionigi@ios.doi.gov.

Dated: July 17, 2009.
Christopher P. Dionigi,
Acting Executive Director, National Invasive Species Council.

[FR Doc. E9-17469 Filed 7-22-09; 8:45 am]

BILLING CODE 4310-RK-P